DEPARTMENT OF ENERGY

Federal Energy Regulatory Commission

Combined Notice of Filings #1

Take notice that the Commission received the following electric rate filings:

Docket Numbers: ER10-2156-002.

Applicants: Consumers Energy Company.

Description: Correction to April 19, 2012 Supplement to Prior Refund Report Filings.

Filed Date: 5/25/12.

Accession Number: 20120525-5155.

Comments Due: 5 p.m. ET 6/15/12.

Docket Numbers: ER11-2664-002.

Applicants: Powerex Corp.

Description: Response of Powerex Corp. to Commission Staff Request for Additional Information.

Filed Date: 5/25/12.

Accession Number: 20120525-5136.

Comments Due: 5 p.m. ET 6/5/12.

Docket Numbers: ER11-2664-002.

Applicants: Powerex Corp.

Description: Errata to Response of Powerex Corp. to Commission Staff Request for Additional Information and Request for Shortened Comment Period.

Filed Date: 5/29/12.

Accession Number: 20120529-5128.

Comments Due: 5 p.m. ET 6/5/12.

Docket Numbers: ER12-1855-000.

Applicants: California Independent System Operator Corporation.

Description: California Independent System Operator Corporation submits tariff filing per 35.13(a)(2)(iii: 2012-05-25 TPP-GIP Tariff Amendment Filing to be effective 7/25/2012.

Filed Date: 5/25/12.

Accession Number: 20120525-5128.

Comments Due: 5 p.m. ET 6/15/12.

Docket Numbers: ER12-1856-000.

Applicants: California Independent System Operator Corporation.

Description: California Independent System Operator Corporation submits tariff filing per 35: 2012-05-25 CAISO Order 741 Central Counterparty Comp Filing to be effective 9/1/2012.

Filed Date: 5/25/12.

Accession Number: 20120525-5129.

Comments Due: 5 p.m. ET 6/15/12.

Docket Numbers: ER12-1857-000.

Applicants: Louisville Gas and Electric Company.

Description: EKPC NITSA Errata to be effective 5/25/2012.

Filed Date: 5/29/12.

Accession Number: 20120529-5076.

Comments Due: 5 p.m. ET 6/19/12.

Docket Numbers: ER12-1858-000.

Applicants: PJM Interconnection, L.L.C., American Transmission Systems, Incorporation.

Description: ATSI submits Original PJM SA No. 3316 T.I.A. between ATSI & West Penn to be effective 5/1/2012.

Filed Date: 5/29/12.

Accession Number: 20120529-5093.

Comments Due: 5 p.m. ET 6/19/12.

Docket Numbers: ER12-1859-000.

Applicants: AEP Texas Central Company.

Description: 20120529 TCC-Anacacho System Upgrade Agreement to be effective 4/30/2012.

Filed Date: 5/29/12.

Accession Number: 20120529-5114.

Comments Due: 5 p.m. ET 6/19/12.

Take notice that the Commission received the following electric securities filings:

Docket Numbers: ES12-35-000.

Applicants: Consumers Energy Company.

Description: Amendment to Application of Consumers Energy Company.

Filed Date: 5/25/12.

Accession Number: 20120525-5141.

Comments Due: 5 p.m. ET 6/4/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2012.
Nathaniel J. Davis, Sr.,
Deputy Secretary.

[FR Doc. 2012-13545 Filed 6-4-12; 8:45 am]

BILLING CODE 6717-01-P